DEPARTMENT OF JUSTICE

Notice of Lodging of Consent Decree Under the Clean Air Act

In a series of published notices in the Federal Register on October 24, 2002 (67 FR 65361), the Department of Justice gave notice that proposed Consent Decrees between the United States and the following companies had been lodged with the United States District Court for the District of Minnesota:

Agri Energy, L.L.C., et al.

Al-Corn Clean Fuel Cooperative

American Standard, Inc., et al.

Central MN Ethanol Co-op

Chippewa Valley Ethanol Co., L.L.P., et at.

Corn Plus

Diversified Energy Co.

Ethanol 2000, L.L.P., et al.

Exol, Broin & Associates, Inc., et al.

Gopher State Ethanol, Inc.

Heartland Corn Products

Minnesota Energy

Pro-Corn, L.L.C., et al.

The October 24, 2002, notice invited the public to submit comments on the proposed Consent Decrees through November 25, 2002, to the Assisted Attorney General for the Environment and Natural Resource Division.

In these actions the United States sought to resolve claims against the owners and operators of ethanol dry mills in Minnesota, pursuant to section 113(b) of the Clean Air Act (“Act”), 42 U.S.C. 7413(b)(1983), amended by, 42 U.S.C. 7413(b) (Supp. 1991).

By today's notice, the Department of Justice is extending the deadline for submission of public comments on any or all of these proposed Consent Decrees through January 24, 2003. Comments should be addressed to the Assistant Attorney General, Environment and Natural Resources Division, P.O. Box 7611, U.S. Department of Justice, Washington, DC. 20044-7611, and should reference the company name, and DJ. Ref. 90-5-2-1-07784/1-10.

The Consent Decrees may be examined at the Office of the Attorney General, NCL Towers Suite 900, 445 Minnesota Street, St. Paul, MN 55101-2127, and at U.S. EPA Region 5, 77 West Jackson Blvd., Chicago, IL 60604. A copy of any of the Consent Decrees may also be obtained by mail from the Consent Decree Library, P.O. Box 7611, U.S. Department of Justice, Washington, DC. 2004-7611 or by faxing a request to Tonia Fleetwood, fax no. (202) 514-0097, phone confirmation number (202) 514-1547. In requesting a copy, the requester will be required to provide a check in the amount of 25 cents per page reproduction cost payable to the U.S. Treasury.

William D. Brighton,
Assistant Chief, Environmental Enforcement Section, Environment and Natural Resources Division.

[FR Doc. 02-30799 Filed 12-4-02; 8:45 am]

BILLING CODE 4410-15-M